DEPARTMENT OF HEALTH AND HUMAN SERVICES

[Document Identifier: OS 4040-0018]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 7, 2021.

ADDRESSES: Submit your comments to Ed.Calimag@hhs.gov or (202) 690-7569.

FOR FURTHER INFORMATION CONTACT: When submitting comments or requesting information, please include the document identifier 4040-0018-60D and project title for reference to Ed.Calimag@hhs.gov, or call (202) 690-7569, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: SF-428 Tangible Personal Property Report.

Type of Collection: Reinstatement of an expired information collection.

OMB No.: 4040-0018.

Abstract: Reporting on the status of Federally-owned property, including disposition, is necessitated in 2 CFR part 215, the “Uniform Administrative Requirements for Grants and Agreements with Institutions of Higher Education, Hospitals, and Other Non-Profit Organizations”, and the “Uniform Administrative Requirements for Grants and Agreements with State and Local Governments”, Additionally, Public Law 106-107, the Federal Financial Assistance Management Improvement Act requires that agencies ”simplify Federal financial assistance application and reporting requirements.” 31 U.S.C. 6101, Section 3.

Agencies are currently using a variety of forms to account for both Federally-owned and grantee owned equipment and property. During the public consultation process mandated by Public Law 106-107, grant recipients requested a standard form to help them submit appropriate property information when required. The Public Law 106-107 Post Awards Subgroup developed a new standard form, the Tangible Personal Property Report, for submission of the required data. The form consists of the cover sheet (SF-428), three attachments to be used as required: Annual Report, SF-428-A; Final Report, SF-428-B; Disposition Request/Report, SF-428-C and a Supplemental Sheet, SF-428S to provide detailed individual item information when required.

Changes shall be made to the form and instructions of the SF-428-B and the SF-428-C.

Annualized Burden Hour Table
Forms | Respondents (if necessary) | Number of respondents | Number of responses per respondents | Average burden per response | Total burden hours
SF-428 Tangible Personal Property Report | Grant applicants | 2,000 | 1 | 1 | 2,000
Total |  | 2,000 | 1 | 1 | 2,000

Sherrette A. Funn,
Paperwork Reduction Act Report Clearance Officer, Office of the Secretary.

[FR Doc. 2021-07039 Filed 4-5-21; 8:45 am]

BILLING CODE 4151-AE-P